ENVIRONMENTAL PROTECTION AGENCY

40 CFR Part 9

[EPA-HQ-OPPT-2014-0486; FRL-9943-62]

OMB Approvals Under the Paperwork Reduction Act; Technical Amendment

AGENCY: Environmental Protection Agency (EPA).

ACTION: Final rule.

SUMMARY: In compliance with the Paperwork Reduction Act (PRA), this technical amendment updates the table that lists the Office of Management and Budget (OMB) control numbers issued under PRA for information collection requirements contained in EPA's regulations that are promulgated in title 40 of the Code of Federal Regulations (CFR). This technical amendment adds new approvals published in the Federal Register since January 8, 2016, and removes expired and terminated approvals.

DATES: This final rule is effective April 5, 2016.

ADDRESSES: The docket for this action, identified by docket identification (ID) number EPA-HQ-OPPT-2014-0486, is available at http://www.regulations.gov or at the Office of Pollution Prevention and Toxics Docket (OPPT Docket), Environmental Protection Agency Docket Center (EPA/DC), West William Jefferson Clinton Bldg., Rm. 3334, 1301 Constitution Ave. NW., Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

FOR FURTHER INFORMATION CONTACT: Angela Hofmann, Regulatory Coordination Staff (7101M), Office of Chemical Safety and Pollution Prevention, Environmental Protection Agency, 1200 Pennsylvania Ave. NW., Washington, DC 20460-0001; telephone number: (202) 564-0258; email address: hofmann.angela@epa.gov.

SUPPLEMENTARY INFORMATION:

I. Does this action apply to me?

This action is directed to the public in general. This action may, however, be of interest to those persons who are concerned about OMB approval for information collections required by EPA regulations. Since other entities may also be interested, the Agency has not attempted to describe all the specific entities that may be affected by this action.

II. Background

A. Why is this technical amendment being issued?

This document updates the OMB control numbers listed in 40 CFR part 9 for various regulations promulgated under the Toxic Substances Control Act (TSCA) (15 U.S.C. 2601), the Federal Insecticide, Fungicide, and Rodenticide Act (FIFRA) (7 U.S.C. 136), and the Federal Food, Drug, and Cosmetic Act (FFDCA) (21 U.S.C. 408). Under PRA (44 U.S.C. 3501 et seq.), an agency may not conduct or sponsor, and a person is not required to respond to an information collection request unless it displays a currently valid OMB control number. The OMB control numbers for EPA's regulations are codified in title 40 of the CFR, after appearing in the preamble of the final rule. These numbers are listed in 40 CFR part 9, displayed in a subsequent publication in the Federal Register, or displayed by other appropriate means, such as on a related collection instrument or form, or as part of the instructions to respondents. The display of OMB control numbers in certain EPA regulations is consolidated in 40 CFR part 9. In addition to displaying the applicable OMB control number in the final rule and on the applicable collection instruments, the Office of Chemical Safety and Pollution Prevention (OCSPP) has also typically listed the OMB control number in the table at 40 CFR 9.1 for regulations it has issued under TSCA, FIFRA, and FFDCA. With this technical amendment, OCSPP is updating the table in 40 CFR 9.1 to list the new OMB control number that replaces the two OMB control numbers that have been consolidated under the new OMB control number.

B. Why is this technical amendment issued as a final rule?

The information collection activities referenced in this document were previously subject to public notice and comment as part of the rulemaking process, and this action does not in any way affect the referenced information collection activities or rulemakings. This action only amends the table at 40 CFR 9.1 to update the list of OMB control numbers listed there. Due to the technical nature of the table, EPA finds that further notice and comment about amending the table is unnecessary. As a result, EPA finds that there is “good cause” under section 553(b)(3)(B) of the Administrative Procedure Act (APA) (5 U.S.C. 553(b)(3)(B)), to amend this table without further notice and comment.

C. What specific changes are being made?

On January 8, 2016, OMB approved the consolidation of three existing, approved OMB control numbers into a single, new OMB control number. Specifically, OMB control numbers 2070-0155, 2070-0158, and 2070-0181 were consolidated into a single information collection approved under OMB control number 2070-0195. This consolidated OMB control number covers the information collection activities imposed on entities conducting lead-based paint related activities. The previous OMB control numbers for these information collection activities will be discontinued.

III. Statutory and Executive Order Reviews

This action implements technical amendments to 40 CFR part 9 to reflect changes to OMB approvals under PRA. It does not otherwise impose or amend any requirements. As such, this action does not require review by OMB under Executive Order 12866, entitled “Regulatory Planning and Review” (58 FR 51735, October 4, 1993), the Paperwork Reduction Act (44 U.S.C. 3501 et seq.), or Executive Order 13045, entitled “Protection of Children from Environmental Health Risks and Safety Risks” (62 FR 19885, April 23, 1997). Nor does it impose any enforceable duty, contain any unfunded mandate, or impose any significant or unique impact on small governments as described in the Unfunded Mandates Reform Act (UMRA) (2 U.S.C. 1501 et seq.).

This action will not have substantial direct effects on State or tribal governments, on the relationship between the Federal Government and States or Indian tribes, or on the distribution of power and responsibilities between the Federal Government and States or Indian tribes. As such, it will not have any “federalism implications” as described by Executive Order 13132, entitled “Federalism” (64 FR 43255, August 10, 1999) or “tribal implications” as described by Executive Order 13175, entitled “Consultation and Coordination with Indian Tribal Governments” (65 FR 67249, November 9, 2000). Nor does it involve any technical standards that would require Agency consideration of voluntary consensus standards pursuant to section 12(d) of the National Technology Transfer and Advancement Act (15 U.S.C. 272 note), environmental justice-related issues that would require consideration under Executive Order 12898, entitled “Federal Actions to Address Environmental Justice in Minority Populations and Low-Income Populations” (59 FR 7629, February 16, 1994), or otherwise involve anything that would have any adverse effect on the supply, distribution, or use of energy that would require consideration under Executive Order 13211, entitled “Actions Concerning Regulations that Significantly Affect Energy Supply, Distribution, or Use” (66 FR 28355, May 22, 2001).

In addition, since this action is not subject to notice-and-comment requirements under the APA or any other statute, it is not subject to the regulatory flexibility provisions of the Regulatory Flexibility Act (5 U.S.C. 601 et seq.).

IV. Congressional Review Act

Pursuant to the Congressional Review Act, 5 U.S.C. 801 et seq., EPA will submit a report containing this rule and other required information to the U.S. Senate, the U.S. House of Representatives, and the Comptroller General of the United States prior to publication of the rule in the Federal Register. This action is not a “major rule” as defined by 5 U.S.C. 804(2).

List of Subjects in 40 CFR Part 9

Environmental protection, Reporting and recordkeeping requirements.

Dated: March 29, 2016.
James Jones,
Assistant Administrator, Office of Chemical Safety and Pollution Prevention.

Therefore, 40 CFR chapter I is amended as follows:

PART 9—OMB APPROVALS UNDER THE PAPERWORK REDUCTION ACT

1. The authority citation for part 9 continues to read as follows:

Authority: 7 U.S.C. 135 et seq., 136-136y; 15 U.S.C. 2001, 2003, 2005, 2006, 2601-2671, 21 U.S.C. 331j, 346a, 348; 31 U.S.C. 9701; 33 U.S.C. 1251 et seq., 1311, 1313d, 1314, 1318, 1321, 1326, 1330, 1342, 1344, 1345(d) and (e), 1361; E.O. 11735, 38 FR 21243, 3 CFR, 1971-1975 Comp. p. 973; 42 U.S.C. 241, 242b, 243, 246, 300f, 300g, 300g-1, 300g-2, 300g-3, 300g-4, 300g-5, 300g-6, 300j-1, 300j-2, 300j-3, 300j-4, 300j-9, 1857 et seq., 6901-6992k, 7401-7671q, 7542, 9601-9657, 11023, 11048.

2. In § 9.1, the table is amended by revising the undesignated center heading “Lead-Based Paint Poisioning Prevention in Certain Residential Structures” to read “Lead-Based Paint Poisoning Prevention in Certain Residential Structures” and revising the following entries underneath it:

a. Part 745, subpart E;

b. Part 745, subpart L; and

c. Part 745, subpart Q.

The revisions read as follows:

§ 9.1 OMB approvals under the Paperwork Reduction Act.

* * * * *

40 CFR citation | OMB control No.
* * * * *
Lead-Based Paint Poisoning Prevention in Certain Residential Structures
Part 745, subpart E | 2070-0195
* * * * *
Part 745, subpart L | 2070-0195
Part 745, subpart Q | 2070-0195
* * * * *

* * * * *

[FR Doc. 2016-07797 Filed 4-4-16; 8:45 am]

BILLING CODE 6560-50-P